DEPARTMENT OF COMMERCE

National Oceanic and Atmospheric Administration

[I.D. 060203D]

Mid-Atlantic Fishery Management Council; Public Meetings

AGENCY: National Marine Fisheries Service (NMFS), National Oceanic and Atmospheric Administration (NOAA), Commerce.

ACTION: Notice of public meeting.

SUMMARY: The Mid-Atlantic Fishery Management Council (Council) and its Squid, Mackerel, and Butterfish Committee, Surfclam and Ocean Quahog Committee with Industry Advisors, and Executive Committee will hold a public meeting.

DATES: The meetings will be held on Tuesday, June 24, through Thursday, June 26, 2003. See SUPPLEMENTARY INFORMATION for specific dates and times.

ADDRESSES: The meetings will be held at the Sheraton Society Hill, One Dock Street, Philadelphia, PA, telephone: 215-238-6000.

Council address: Mid-Atlantic Fishery Management Council, 300 S. New Street, Dover, DE 19904, telephone: 302-674-2331.

FOR FURTHER INFORMATION CONTACT: Daniel T. Furlong, Executive Director, Mid-Atlantic Fishery Management Council; telephone: 302-674-2331, ext. 19.

SUPPLEMENTARY INFORMATION: On Tuesday, June 24, the Squid, Mackerel, and Butterfish Committee will meet from 10 a.m. until 1 p.m. The Surfclam and Ocean Quahog Committee with Industry Advisors will meet from 2 pm to 5 p.m. On Wednesday, June 25, Council will meet from 9 a.m. until 4 p.m. The Executive Committee will meet from 4 p.m. to 5 p.m. On Thursday, June 26, Council will meet from 9 a.m. until 1 p.m.

Agenda items for the Council's committees and the Council itself are: The Squid, Mackerel, and Butterfish Committee will discuss timing of Amendment 9, Amendment 10, and Framework 4; review Monitoring Committee's recommendations for 2004 quotas and management measures; and, develop the Committee's recommendations for 2004 quotas and management measures. The Surfclam and Ocean Quahog Committee, with Industry Advisors, will review staff recommendations for 2004 quotas and management measures; develop 2004 quota specification recommendations, and discuss Eastern Shore Seafood's request to begin Amendment 14. The Executive Committee will review and discuss outcomes from the Council Chairmen's meeting, and initiatives included in the Fisheries Quota Act of 2003 (Senate Bill 1106). The Council will review and adopt Framework 3 (authorizing quota rollover from Winter I to Winter II, and changing the start date for the summer period from May 1 to April 15), Framework 4 (authorizing transfer of scup at sea) or some combination of these two Frameworks to the Summer Flounder, Scup, and Black Sea Bass Fishery Management Plan (FMP); approve public hearing document for Amendment 9 to the Atlantic Mackerel, Squid and Butterfish FMP, review Committee's recommendations for 2004 quotas and management measures, and develop and recommend 2004 quota specifications and management measures for Atlantic mackerel, squids, and butterfish; review Committee's recommendations for 2004 quotas and management measures, and develop and approve 2004 quota specifications and management measures for surfclams and ocean quahogs; review, discuss and adopt management measures to be included in Amendment 2 to the Monkfish FMP; receive and discuss organizational and committee reports including: Executive Committee actions; Highly Migratory Species (HMS) issues; Research Set-Aside issues; Protected Resources issue and actions; New England Council's report regarding possible actions on herring, groundfish, monkfish, red crab, scallops, skates, and whiting; and, South Atlantic Council's report. They will act on any continuing and/or new business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

These meetings are physically accessible to people with disabilities. Requests for sign language interpretation or other auxiliary aids should be directed to Joanna Davis at the Council (see ADDRESSES) at least 5 days prior to the meeting date.

Dated: June 2, 2003.
Richard W. Surdi,
Acting Director, Office of Sustainable Fisheries, National Marine Fisheries Service.

[FR Doc. 03-14476 Filed 6-6-03; 8:45 am]

BILLING CODE 3510-22-S